DEPARTMENT OF COMMERCE

Census Bureau

Census Scientific Advisory Committee

AGENCY: Census Bureau, Department of Commerce.

ACTION: Notice of public virtual meeting.

SUMMARY: The Census Bureau is giving notice of a virtual meeting of the Census Scientific Advisory Committee (CSAC). The Committee will address policy, research, and technical issues relating to a full range of Census Bureau programs and activities, including decennial, economic, field operations, information technology, and statistics. Last minute changes to the schedule are possible, which could prevent giving advance public notice of schedule adjustments. Please visit the Census Advisory Committees website at http://www.census.gov/cac for the CSAC meeting information, including the agenda, and how to join the meeting.

DATES: The virtual meeting will be held on:

• Thursday, September 23, 2021, from 11:00 a.m. to 5:00 p.m. EDT, and

• Friday, September 24, 2021, from 11:00 a.m. to 5:00 p.m. EDT.

ADDRESSES: The meeting will be held via the WebEx platform at the following presentation links:

• September 23, 2021— https://uscensus.webex.com/uscensus/onstage/g.php?MTID=e2d53a9ab6639cd6ca8d5a50514338576

• September 24, 2021— https://uscensus.webex.com/uscensus/onstage/g.php?MTID=e2694c3e057e623f254046b6018124d06.

For audio, please call the following number: 1-888-970-4170 or 1-210-234-0001. When prompted, please use the following Password: Census#1, and Passcode: 7645589.

FOR FURTHER INFORMATION CONTACT: Shana Banks, Advisory Committee Branch Chief, Office of Program, Performance and Stakeholder Integration (PPSI), shana.j.banks@census.gov, Department of Commerce, Census Bureau, telephone 301-763-3815. For TTY callers, please use the Federal Relay Service at 1-800-877-8339.

SUPPLEMENTARY INFORMATION: The Committee provides scientific and technical expertise to address Census Bureau program needs and objectives. The members of the CSAC are appointed by the Director of the Census Bureau. The Committee has been established in accordance with the Federal Advisory Committee Act (Title 5, United States Code, Appendix 2, Section 10).

All meetings are open to the public. A brief period will be set aside during the virtual meeting for public comments on September 24, 2021. However, individuals with extensive questions or statements must submit them in writing to shana.j.banks@census.gov, (subject line “2021 CSAC Fall Virtual Meeting Public Comment”).

Ron S. Jarmin, Acting Director, Census Bureau, approved the publication of this Notice in the Federal Register.

Dated: August 16, 2021.
Sheleen Dumas,
Department PRA Clearance Officer, Office of the Chief Information Officer, Commerce Department.

[FR Doc. 2021-17822 Filed 8-18-21; 8:45 am]

BILLING CODE 3510-07-P